ENVIRONMENTAL PROTECTION AGENCY

[OEI-2005-0010; FRL-7956-7]

Office of Environmental Information; Announcement of Availability and Comment Period for Institutional Controls Draft Data Standard

AGENCY: Environmental Protection Agency.

ACTION: Notice of data availability & request for comment.

SUMMARY: Notice of availability for a 45 day review and comment period is hereby given for the Draft Institutional Controls Data Standard.

The Draft Institutional Control (IC) Data Standard provides a structure for defining the elements required for describing IC information. It provides information about the implementation, monitoring, enforcement, and termination of instruments (via the IC Event) as well as the objectives they meet, associated locations, affiliates and their roles/responsibilities relevant to the IC, cleanup actions (via the IC Event), technologies, and the documentation related to each of the aforementioned subsets of data. States and U.S. EPA completed a technical review of this standard in the Fall of 2004.

DATES: Comments must be submitted on or before October 5, 2005.

FOR FURTHER INFORMATION CONTACT: Dawn Banks-Waller; Environmental Protection Agency; 1200 Pennsylvania Avenue, MC 2822T; Washington, DC 20460; Phone: (202) 566 0625; Fax: (202) 566 1624; e-mail: Banks-Waller.Dawn@epa.gov.

SUPPLEMENTARY INFORMATION: This standard was developed by the Environmental Data Standards Council (EDSC). The EDSC is a partnership of among EPA, States, and Tribes which promotes the efficient sharing of environmental information through the cooperative development of data standards.

The standards are intended for use in environmental data exchanges among States, tribal entities and the U.S. EPA. They are not meant to dictate or to limit data an agency chooses to collect for its own internal purposes. Adoption of a data standard should not be interpreted to mean that revisions to databases or information systems are required. What the adoption does mean is that formats for sharing data with Exchange Network (EN) partners will change because the Exchange Network has adopted Shared Schema Components (SSCs) based on the data standards. The SSCs are available on the Exchange Network Web site at http://www.exchangenetwork.net.

The draft data standards documents can be found on EDSC's Web site at http://www.envdatastandards.net/ and are available through the Docket system as indicated below.

I. General Information

A. How Can I Get Copies of These Documents and Other Related Information?

1. Docket. EPA has established an official public docket for this action under Docket ID No. OEI-2005-0010. The official public docket is the collection of materials that is available for public viewing at the OEI Docket in the EPA Docket Center, (EPA/DC) EPA West, Room B102, 1301 Constitution Ave., NW., Washington, DC. The EPA Docket Center Public Reading Room is open from 8:30 a.m. to 4:30 p.m., Monday through Friday, excluding legal holidays. The telephone number for the Public Reading Room is (202) 566-1744, and the telephone number for the OEI Docket is (202) 566-1752.

2. Electronic Access. You may access this Federal Register document electronically through the EPA Internet under the Federal Register listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B. Once in the system, select “search,” then key in the appropriate docket identification number.

Dated: August 10, 2005.
Oscar Morales,
Director, Collection Strategies Division.

[FR Doc. 05-16595 Filed 8-19-05; 8:45 am]

BILLING CODE 6560-50-U